DEPARTMENT OF ENERGY

Federal Energy Regulatory Commission

Combined Notice of Filings #1

Take notice that the Commission received the following electric corporate filings:

Docket Numbers: EC16-195-000.

Applicants: Paulding Wind Farm III LLC.

Description: Application for Authorization for Disposition of Jurisdictional Facilities of Paulding Wind Farm III LLC.

Filed Date: 9/30/16.

Accession Number: 20160930-5350.

Comments Due: 5 p.m. ET 10/21/16.

Take notice that the Commission received the following electric rate filings:

Docket Numbers: ER10-2249-005.

Applicants: Portland General Electric Company.

Description: Supplement to June 30, 2016 Triennial Market Power Analysis in the Northwest Region for Portland General Electric Company.

Filed Date: 9/30/16.

Accession Number: 20160930-5355.

Comments Due: 5 p.m. ET 10/21/16.

Docket Numbers: ER10-2390-001; ER10-2389-003.

Applicants: Bicent (California) Malburg LLC, San Joaquin Cogen, LLC.

Description: Notice of Non-Material Change in Status of Bicent (California) Malburg LLC, et al.

Filed Date: 9/30/16.

Accession Number: 20160930-5362

Comments Due: 5 p.m. ET 10/21/16.

Docket Numbers: ER12-2499-015; ER10-1290-008; ER10-3026-007; ER11-3987-010; ER11-4055-007; ER12-1470-007; ER12-1566-009; ER12-2498-015; ER13-764-015; ER14-1548-008; ER14-1775-005; ER14-474-007; ER16-1833-001.

Applicants: Alpaugh North, LLC, Alpaugh 50, LLC, CED White River Solar, LLC, Copper Mountain Solar 1, LLC, Copper Mountain Solar 2, LLC, Copper Mountain Solar 3, LLC, Energia Sierra Juarez U.S., LLC, Mesquite Solar 1, LLC, Sempra Generation, LLC, Sempra Gas & Power Marketing, LLC, SEP II, LLC, Termoelectrica U.S., LLC, San Diego Gas & Electric Company.

Description: Notice of Non-Material Change in Status of Alpaugh North, LLC, et al.

Filed Date: 9/30/16.

Accession Number: 20160930-5346.

Comments Due: 5 p.m. ET 10/21/16.

Docket Numbers: ER13-1508-002.

Applicants: Entergy Louisiana, LLC, Entergy New Orleans, Inc.

Description: Informational Compliance Filing of Amended Power Purchase Agreement [Pro Forma Sheets] of Entergy Louisiana, LLC, et al.

Filed Date: 9/30/16.

Accession Number: 20160930-5353.

Comments Due: 5 p.m. ET 10/21/16.

Docket Numbers: ER15-1510-002.

Applicants: FirstEnergy Solutions Corp.

Description: Amended Settlement Agreement of FirstEnergy Solutions Corp.

Filed Date: 9/27/16.

Accession Number: 20160927-5172.

Comments Due: 5 p.m. ET 10/21/16.

Docket Numbers: ER16-1251-001.

Applicants: Entergy Louisiana, LLC.

Description: Compliance filing: ELL MSS-4 Replacement Agreements—Compliance to be effective 9/1/2016.

Filed Date: 9/30/16.

Accession Number: 20160930-5276.

Comments Due: 5 p.m. ET 10/21/16.

Docket Numbers: ER16-2726-000.

Applicants: Maine Yankee Atomic Power Company.

Description: § 205(d) Rate Filing: Maine Yankee Application to Update Decommissioning Estimate to be effective 12/1/2016.

Filed Date: 9/30/16.

Accession Number: 20160930-5271.

Comments Due: 5 p.m. ET 10/21/16.

Docket Numbers: ER16-2727-000.

Applicants: KCP&L Greater Missouri Operations Company.

Description: § 205(d) Rate Filing: Rate Schedule 138 to be effective 11/29/2016.

Filed Date: 9/30/16.

Accession Number: 20160930-5272.

Comments Due: 5 p.m. ET 10/21/16.

Docket Numbers: ER16-2728-000.

Applicants: EWO Marketing, LLC.

Description: § 205(d) Rate Filing: EWOM-SRMPA Price Adjustment Agreement to be effective 10/1/2016.

Filed Date: 9/30/16.

Accession Number: 20160930-5275.

Comments Due: 5 p.m. ET 10/21/16.

Docket Numbers: ER16-2729-000.

Applicants: Duke Energy Progress, LLC.

Description: § 205(d) Rate Filing: DEP Harris—Recovery of Abandoned Nuclear Plant Costs to be effective11/1/2016.

Filed Date: 9/30/16.

Accession Number: 20160930-5277.

Comments Due: 5 p.m. ET 10/21/16.

Docket Numbers: ER16-2730-000.

Applicants: LSC Communications US, LLC.

Description: Baseline eTariff Filing: LSCC MBRA Application to be effective 10/1/2016.

Filed Date: 9/30/16.

Accession Number: 20160930-5279.

Comments Due: 5 p.m. ET 10/21/16.

Docket Numbers: ER16-2731-000.

Applicants: Maricopa West Solar PV, LLC.

Description: Compliance filing: Amendment to MBR Tariff to be effective 11/29/2016.

Filed Date: 9/30/16.

Accession Number: 20160930-5280.

Comments Due: 5 p.m. ET 10/21/16.

Docket Numbers: ER16-2732-000.

Applicants: Holtwood, LLC.

Description: Tariff Cancellation: Notice of Cancellation of Market-Based Rate Tariff to be effective 10/1/2016.

Filed Date: 9/30/16.

Accession Number: 20160930-5282.

Comments Due: 5 p.m. ET 10/21/16.

Docket Numbers: ER16-2733-000.

Applicants: Yankee Atomic Electric Company.

Description: § 205(d) Rate Filing: Yankee Atomic Application to Update Decommissioning Estimate to be effective 12/1/2016.

Filed Date: 9/30/16.

Accession Number: 20160930-5284.

Comments Due: 5 p.m. ET 10/21/16.

Docket Numbers: ER16-2734-000.

Applicants: Southwest Power Pool, Inc.

Description: Southwest Power Pool, Inc.'s Informational Filing to Notify the Commission of Implementation of Year-Five Reallocation of Revenue Requirements Pursuant to Attachments J and O for the Balanced Portfolio.

Filed Date: 9/30/16.

Accession Number: 20160930-5358.

Comments Due: 5 p.m. ET 10/21/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2016.
Nathaniel J. Davis, Sr.,
Deputy Secretary.

[FR Doc. 2016-24545 Filed 10-11-16; 8:45 am]

BILLING CODE 6717-01-P